SECURITIES AND EXCHANGE COMMISSION

Classified National Security Information

AGENCY: Securities and Exchange Commission.

ACTION: Notice.

SUMMARY: Pursuant to the Information Security Oversight Office's Classified National Security Information Directive No. 1, this notice provides the address to which mandatory declassification review requests may be sent. Requests should be addressed to the Securities and Exchange Commission, Office of the Executive Director, 100 F Street, NE., Washington, DC 20549.

Dated: January 20, 2006.
Nancy M. Morris,
Secretary.

[FR Doc. E6-969 Filed 1-25-06; 8:45 am]

BILLING CODE 8010-01-P